DEPARTMENT OF COMMERCE

National Oceanic and Atmospheric Administration

[I.D.061306B]

Magnuson-Stevens Act Provisions; General Provisions for Domestic Fisheries; Application for Exempted Fishing Permit (EFP)

AGENCY: National Marine Fisheries Service (NMFS), National Oceanic and Atmospheric Administration (NOAA), Department of Commerce.

ACTION: Notification of a proposal for an EFP to conduct experimental fishing; request for comments.

SUMMARY: The Assistant Regional Administrator for Sustainable Fisheries, Northeast Region, NMFS (Assistant Regional Administrator) has made a preliminary determination that the subject EFP application submitted by Truex Enterprises contains all the required information and warrants further consideration. The proposed EFP would test the safety and efficacy of harvesting surfclams and ocean quahogs from the Georges Bank Closure Area using a harvesting protocol developed by the U.S. Food and Drug Administration. The Assistant Regional Administrator has also made a preliminary determination that the activities authorized under the EFP would be consistent with the goals and objectives of the Atlantic Surfclam and Ocean Quahog regulations and Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for an exemption from the Atlantic surfclam and ocean quahog Georges Bank (GB) Closure Area.

Regulations under the Magnuson-Stevens Fishery Conservation and Management Act require publication of this notification to provide interested parties the opportunity to comment on applications for proposed EFPs.

DATES: Comments on this document must be received on or before July 19, 2006.

ADDRESSES: Comments on this notice may be submitted by e-mail.

The mailbox address for providing e-mail comments is DA6114@noaa.gov. Include in the subject line of the e-mail comment the following document identifier: “Comments on GB PSP Closed Area Exemption.” Written comments should be sent to Patricia A. Kurkul, Regional Administrator, NMFS, Northeast Regional Office, 1 Blackburn Drive, Gloucester, MA 01930. Mark the outside of the envelope “Comments on GB PSP Closed Area Exemption.” Comments may also be sent via facsimile (fax) to (978) 281-9135.

FOR FURTHER INFORMATION CONTACT: Tobey Curtis, Fishery Management Specialist, phone 978-281-9273.

SUPPLEMENTARY INFORMATION: Truex Enterprises of New Bedford, MA submitted an application for an EFP on March 30, 2006. Additional information was received on April 19, 2006, completing the application. The experimental fishing application requests authorization to allow the catch and retention for sale of Atlantic surfclams and ocean quahogs from within the Atlantic surfclam and ocean quahog GB Closure Area. This area, located east of 69°00 W. long. and south of 42°20 N. lat., was closed on May 25, 1990. This closure was implemented based on the advice from the U.S. Food and Drug Administration (FDA) after samples of surfclams from the area tested positive for the toxins (saxotoxins) that cause Paralytic Shellfish Poisoning (PSP). These toxins are produced by the algae Alexandrium fundyense that can form blooms commonly referred to as red tides. Red tide blooms, also known as harmful algal blooms (HABs), can produce toxins that accumulate in filter-feeding shellfish. Shellfish contaminated with the saxotoxin, if eaten in large enough quantity, can cause illness or death from PSP. Due, in part, to the inability to test and monitor this area for the presence of PSP, this closure was made permanent through Amendment 12 to the Atlantic Surfclam and Ocean Quahog FMP in 1999.

The primary goal of the study is to test the efficacy of the Protocol for Onboard Screening and Dockside Testing for PSP Toxins in Molluscan Shellfish (Protocol) developed by state and Federal regulatory agencies to test for presence of saxotoxins in shellfish. This protocol would facilitate the harvest of shellfish from waters susceptible to HABs, which produce the saxotoxins, but that are not currently under rigorous water quality monitoring programs by either state or Federal management agencies. The Protocol is currently under final review by the FDA. This project would only proceed once the FDA has endorsed the final Protocol. The Protocol details procedures and reporting for harvesting, testing, and landing of shellfish harvested from areas that are susceptible to HABs prior to the shellfish from entering commerce. A copy of the Protocol, when finalized, will be available by contacting NMFS (see ADDRESSES).

The proposed project would conduct a trial for the sampling protocol in an exemption zone within the larger 1990 GB Closure Area with the F/V Seawatcher. This proposed exempted fishing activity would occur from approximately July-December 2006, using surfclam and ocean quahog quota allocated to Truex Enterprises under the Federal individual transferable quota (ITQ) program. The applicant has estimated a harvest of 176,000 bushels of surfclams and 80,000 bushels of ocean quahogs from the exemption area. The exemption area was tested in cooperation with the FDA in the winter of 2006. No samples collected during that time were above acceptable levels for saxotoxins (80 μg toxin/100g of shellfish). In order for the proposed EFP to be issued the applicant would be required to obtain a permit from the Massachusetts Division of Marine Fisheries (MADMF) to land the product in New Bedford, Massachusetts. NMFS, FDA, MADMF, and Massachusetts Department of Public Health are working closely in reviewing this proposed project. This EFP would allow for an exemption from the Atlantic surfclam and ocean quahog GB Closure Area specified at 50 CFR 648.73(a)(4).

Authority: 16 U.S.C. 1801 et seq.

Dated: June 14, 2006.
James P. Burgess,
????

[FR Doc. E6-9557 Filed 6-16-06; 8:45 am]

BILLING CODE 3510-22-S